DEPARTMENT OF THE TREASURY

Office of Foreign Assets Control

Actions Taken Pursuant to Executive Order 13382

AGENCY: Office of Foreign Assets Control, Treasury Department.

ACTION: Notice.

SUMMARY: The Treasury Department's Office of Foreign Assets Control (“OFAC”) is publishing on OFAC's list of Specially Designated Nationals and Blocked Persons (“SDN List”) the names of eight entities and six individuals, whose property and interests in property are blocked pursuant to Executive Order 13382 of June 28, 2005, “Blocking Property of Weapons of Mass Destruction Proliferators and Their Supporters.” The designations by the Director of OFAC, pursuant to Executive Order 13382, were effective on May 23, 2013.

DATES: The designations by the Director of OFAC, pursuant to Executive Order 13382, were effective on May 23, 2013.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On May 23, 2013, the Director of OFAC, in consultation with the Departments of State, Justice, and other relevant agencies, designated eight entities and six individuals whose property and interests in property are blocked pursuant to Executive Order 13382.

The list of additional designees is as follows:

1. MOZAFFARINIA, Reza (a.k.a. MOZAFARI-NIYA, Reza; a.k.a. MOZAFARNIA, Reza; a.k.a. MOZAFFARI NIA, Reza; a.k.a. MOZAFFARINIA HOSEIN, Reza; a.k.a. MOZAFFARI-NIA, Reza; a.k.a. MOZAFFARI-NIYA, Reza; a.k.a. MOZZAFARNIA, Dr. Reza); DOB 1959; POB Isfahan, Iran; Deputy Defense Minister and Dean of Malek Ashtar University (individual) [NPWMD] [IFSR].

2. MAHDAVI, Ali; DOB 21 Apr 1967; citizen Iran (individual) [NPWMD] [IFSR].

3. PARVARESH, Farhad Ali; DOB Dec 1957; nationality Iran (individual) [NPWMD] [IFSR].

4. VAZIRI, Hossein Nosratollah (a.k.a. VAZIRI, Ahmad; a.k.a. VAZIRI, Ahmed), 3-C-C Impiana Condo Jalan, Ulu Klang, Kuala Lumpur, Malaysia; DOB 21 Mar 1961; POB Damghan, Iran; nationality Iran; Passport R19246338 (Iran) (individual) [NPWMD] [IFSR].

5. YAZDI, Bahareh Mirza Hossein (a.k.a. YAZDI, BETTY); DOB 26 Jun 1978; citizen United Kingdom (individual) [NPWMD] [IFSR].

6. BUJAR, Farhad (a.k.a. BOUJAR, Farhad); nationality Iran; Passport R10789966; Managing Director, TESA (individual) [NPWMD] [IFSR].

7. ABAN AIR (a.k.a. ABAN AIR CO JPS), No.14, Imam Khomeini Airport, Airport Cargo Terminal, Tehran, Iran; No.1267, Vali Asr Avenue, Tehran 1517736511, Iran; Unit 7, Marlin Park, Central Way, Feltham TW14 OXD, United Kingdom; No.53 Molla Sadra St. Vanak Square, Tehran 19916 14661, Iran; No 7 & 8, Main Dnata Building, Dubai Airport Free Zone, Dubai, United Arab Emirates; Web site www.abanair.com; Email Address info@abanair.com [NPWMD] [IFSR].

8. DFS WORLWIDE (a.k.a. DFS WORLDWIDE FZCO), No.53 Mollasadra Avenue, P.O. Box 1991614661, Tehran, Iran; Unit 7, Marlin Park, Central Way, Feltham, Middlesex TW14 0XD, United Kingdom; Warehouse No.J-01, Dubai Airport Free Zone, Dubai, United Arab Emirates; P.O. Box 293020 Dubai Airport Free Zone, Dubai, United Arab Emirates; Cargo City South, Building 543, Frankfurt 60549, Germany; S.A. Pty Ltd Unit 8, the Meezricht Business Park, 33 Kelly Road, Jet Park, Boksburg North 1460, South Africa; Web site www.dfsworldwide.com; Email Address irsales@dfsworldwide.com; DFS WORLWIDE, (a.k.a. DFS WORLDWIDE FZCO) is a separate and distinct entity from DFS Worldwide of Houston, Texas, USA and from Deutsche Financial Services, of Germany. [NPWMD] [IFSR].

9. ENERGY GLOBAL INTERNATIONAL FZE, P.O. Box 1245, Dubai, United Arab Emirates; Email Address MD@energyglobal.info [NPWMD] [IFSR].

10. EVEREX (a.k.a. EVEREX GLOBAL CARRIER AND CARGO; a.k.a. EVEREX LIMITED; a.k.a. SUN GROUP; a.k.a. SUN GROUP AIR TRAVEL AND AIR CARGO AND AIRPORT SERVICES LTD), Office 14, Cargo Terminal, Imam Khomeini International Airport, Tehran, Iran; 1267 Vali-E-Asr Avenue, Tehran, Iran; No.53 Mollasadra St, Vanak Square, Tehran, Iran; Office# J01, Dubai Airport Free Zone, Dubai, United Arab Emirates; P.O. Box 293020, Dubai, United Arab Emirates; Unit 7, Marlin Park, Central Way, Feltham TW14 OXD, United Kingdom; Web site www.everexglobal.com; Email Address irsales@everexglobal.com; alt. Email Address uksales@everexglobal.com [NPWMD] [IFSR].

11. GLOBAL SEA LINE CO LTD, 10 Anson Road #31-10 International Plaza, Singapore; Email Address globalsealine@gmail.com [NPWMD] [IFSR].

12. PETRO GREEN (a.k.a. PETRO DIAMOND; a.k.a. PETROGREEN), B-8-1 Block B Megan Ave. II, 12 Jalan Yap Kwan Seng, Kuala Lumpur, Malaysia [NPWMD] [IFSR].

13. ANDISHEH ZOLAL, 42 Niam Street, Shariati Avenue, P.O. Box 15875-4159, Tehran 19481, Iran [NPWMD] [IFSR].

14. ZOLAL IRAN COMPANY, No. 2 Shariati Avenue, Niyam Street, Tehran, Iran [NPWMD] [IFSR].

Dated: May 23, 2013.
Barbara C. Hammerle,
Acting Director, Office of Foreign Assets Control.

[FR Doc. 2013-13168 Filed 6-3-13; 8:45 am]

BILLING CODE 4810-AL-P